DEPARTMENT OF DEFENSE

Office of the Secretary

[Docket ID: DoD-2023-OS-0122]

Proposed Collection; Comment Request

AGENCY: Office of the Under Secretary of Defense for Personnel and Readiness (OUSD (P&R)), Department of Defense (DoD).

ACTION: 60-Day information collection notice.

SUMMARY: In compliance with the Paperwork Reduction Act of 1995, the Defense Advisory Committee on Women in the Services (DACOWITS) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by February 16, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to DACOWITS, 4800 Mark Center Dr., Suite 06E22, Alexandria, Virginia 22350. POC: Robert Bowling, 703-380-0116.

SUPPLEMENTARY INFORMATION:

Title; Associated Form; and OMB Number: Defense Advisory Committee on Women in the Services (DACOWITS) Focus Groups; OMB Control Number: 0704-DACW.

Needs and Uses: DACOWITS provides independent advice and recommendations to the Secretary of Defense on matters and policies relating to the recruitment, retention, employment, integration, well-being, and treatment of women in the Armed Forces of the United States, via a comprehensive annual report. DACOWITS collects qualitative data from focus groups and interactions with Service members during installation visits. The focus groups will be conducted with Service members (both male and female; officer and enlisted) from each of the Military Services. The research and data gathered through focus group responses will be analyzed in order to provide the Committee with vital information and input needed to create, support, and provide justification and reasoning for their recommendations.

Affected Public: Individuals or households.

Annual Burden Hours: 864.

Number of Respondents: 576.

Responses per Respondent: 1.

Annual Responses: 576.

Average Burden per Response: 90 minutes.

Frequency: Once.

Dated: December 13, 2023.
Aaron T. Siegel,
Alternate OSD Federal Register Liaison Officer, Department of Defense.

[FR Doc. 2023-27727 Filed 12-15-23; 8:45 am]

BILLING CODE 6001-FR-P